DEPARTMENT OF COMMERCE

National Oceanic and Atmospheric Administration

RIN 0648-XC014

Marine Mammals; File No. 17670

AGENCY: National Marine Fisheries Service (NMFS), National Oceanic and Atmospheric Administration (NOAA), Commerce.

ACTION: Notice; issuance of permit amendment.

SUMMARY: Notice is hereby given that a major amendment to Permit No. 17670-02 has been issued to NMFS Northeast Fisheries Science Center, 166 Water Street, Woods Hole, MA 02543 (Responsible Party: William Karp, Ph.D.).

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Rosa L. González, (301) 427-8401.

SUPPLEMENTARY INFORMATION: On July 10, 2015, notice was published in the Federal Register (80 FR 39749) that a request for an amendment Permit No. 17670-02 to conduct research on gray (Halichoerus grypus), harbor (Phoca vitulina), harp (Pagophilus groenlandicus), and hooded (Cystophora cristata) seals had been submitted by the above-named applicant. The requested permit amendment has been issued under the authority of the Marine Mammal Protection Act of 1972, as amended (16 U.S.C. 1361 et seq.), and the regulations governing the taking and importing of marine mammals (50 CFR part 216).

Permit No. 17670-00 authorized takes of gray, harbor, harp, and hooded seals in waters within or proximal to the U.S. EEZ from North Carolina northward to Maine, during conduct of stock assessment research, including estimation of distribution and abundance, determination of stock structure, habitat requirements, foraging ecology, health assessment and effects of natural and anthropogenic factors. Types of take include harassment during shipboard, skiff, and aircraft transect and photo-identification surveys, and scat collection; and, capture with tissue sampling and instrument or tag attachment. A limited number of research-related mortality is also allowed, as well as world-wide import and export of pinniped samples. A minor amendment (Permit No. 17670-01) authorized sampling of pinniped carcasses aboard commercial fishing vessels. An additional minor amendment (Permit No. 17670-02) authorized nail clipping and fecal loop sampling during permitted captures.

Permit No. 17670-03, issued September 28, 2015, includes authorization to increase the number and frequency of gray and harbor seal harassment and capture takes annually during research, add use of unmanned aircraft systems to survey seals, increase the number of biopsy samples taken (from one to two), increase the number of gray and harbor seal samples imported/exported annually, and allow euthanasia in the event sick or injured seals are inadvertently captured. The permit expires April 30, 2018.

In compliance with the National Environmental Policy Act of 1969 (42 U.S.C. 4321 et seq.), a final determination has been made that the activity proposed is categorically excluded from the requirement to prepare an environmental assessment or environmental impact statement.

Dated: October 29, 2015.
Julia Harrison,
Chief, Permits and Conservation Division, Office of Protected Resources, National Marine Fisheries Service.

[FR Doc. 2015-28838 Filed 11-13-15; 8:45 am]

BILLING CODE 3510-22-P